DEPARTMENT OF ENERGY

Office of Energy Efficiency and Renewable Energy

[Case No. BC-001]

Energy Conservation Program for Consumer Products: Decision and Order Granting a Waiver to Dyson, Inc. From the Department of Energy Battery Charger Test Procedure

AGENCY: Office of Energy Efficiency and Renewable Energy, Department of Energy.

ACTION: Decision and order.

SUMMARY: The U.S. Department of Energy (DOE) gives notice of a decision and order (Case No. BC-001) that grants to Dyson, Inc. (Dyson) a waiver from the DOE test procedure for determining the energy consumption of battery chargers. Under this decision and order, Dyson is required to test and rate the battery charger used in its robotic vacuum cleaner model RB01, marketed as the Dyson 360-Eye (Robot) using an alternate test procedure to turn off functions not associated with the battery charging process during the charge and maintenance mode test by isolating a terminal of the battery pack using isolating tape when measuring energy consumption.

DATES: This Decision and Order is effective April 5, 2017.

FOR FURTHER INFORMATION CONTACT: Mr. Bryan Berringer, U.S. Department of Energy, Building Technologies Program, Mail Stop EE-5B, Forrestal Building, 1000 Independence Avenue SW., Washington, DC 20585-0121. Telephone: (202) 586-0371. Email: AS_Waiver_Requests@ee.doe.gov.

Mr. Peter Cochran, U.S. Department of Energy, Office of the General Counsel, Mail Stop GC-33, Forrestal Building, 1000 Independence Avenue SW., Washington, DC 20585-0103. Telephone: (202) 586-9496. Email: Peter.Cochran@hq.doe.gov.

SUPPLEMENTARY INFORMATION: In accordance with Title 10 of the Code of Federal Regulations (10 CFR 430.27(f)(2)), DOE gives notice of the issuance of its decision and order as set forth below. The decision and order grants Dyson a waiver from the applicable battery charger test procedure in 10 CFR part 430, subpart B, appendix Y for the battery charger used in their robotic vacuum cleaner model RB01, marketed as the Dyson 360-Eye (“Robot”), provided that Dyson tests and rates such products using the alternate test procedure described in this notice. Dyson's representations concerning the energy efficiency of this product must be based on testing consistent with the provisions and restrictions in the alternate test procedure set forth in the decision and order below, and the representations must fairly disclose the test results. Distributors, retailers, and private labelers are held to the same standard when making representations regarding the energy efficiency of these products. (42 U.S.C. 6293(c))

Not later than June 5, 2017, any manufacturer currently distributing in commerce in the United States a product employing a technology or characteristic that results in the same need for a waiver from the battery charger test procedure must submit a petition for waiver. 10 CFR 430.27(j). Manufacturers not currently distributing such products in commerce in the United States must petition for and be granted a waiver prior to distribution in commerce in the United States. Manufacturers may also submit a request for interim waiver pursuant to the requirements of 10 CFR 430.27.

Issued in Washington, DC, on March 27, 2017.
Steven G. Chalk,
Acting Assistant Secretary, Energy Efficiency and Renewable Energy.

Decision and Order

In the Matter of: Dyson, Inc. (Case No. BC-001)

I. Background and Authority

Title III, Part B ¹ of the Energy Policy and Conservation Act of 1975 (EPCA), Public Law 94-163 (42 U.S.C. 6291-6309, as codified) established the Energy Conservation Program for Consumer Products Other Than Automobiles, a program that includes battery chargers.² Part B includes definitions, test procedures, labeling provisions, energy conservation standards, and the authority to require information and reports from manufacturers. Further, Part B authorizes the Secretary of Energy to prescribe test procedures that are reasonably designed to produce results that measure energy efficiency, energy use, or estimated operating costs during a representative average-use cycle, and that are not unduly burdensome to conduct. (42 U.S.C. 6293(b)(3)) The test procedure for battery chargers is contained in Title 10 of the Code of Federal Regulations (CFR) part 430, subpart B, appendix Y, Uniform Test Method for Measuring the Energy Consumption of Battery Chargers.

¹ For editorial reasons, upon codification in the U.S. Code, Part B was redesignated as Part A.

² All references to EPCA in this document refer to the statute as amended through the Energy Efficiency Improvement Act of 2015 (EEIA), Public Law 114-11 (April 30, 2015).

The regulations set forth in 10 CFR 430.27 contain provisions that allow a person to seek a waiver from the test procedure requirements for a particular basic model of a type of covered product when the petitioner's basic model for which the petition for waiver was submitted contains one or more design characteristics that: (1) Prevent testing according to the prescribed test procedure, or (2) cause the prescribed test procedures to evaluate the basic model in a manner so unrepresentative of its true energy consumption characteristics as to provide materially inaccurate comparative data. 10 CFR 430.27(a)(1).DOE may grant the waiver subject to conditions, including adherence to alternate test procedures. 10 CFR 430.27(f)(2).

II. Dyson's Petition for Waiver: Assertions and Determinations

On April 7, 2016, Dyson filed a petition for waiver from the DOE test procedure for battery chargers under 10 CFR 430.27 for the battery charger used in their robotic vacuum cleaner model RB01, marketed as the Dyson 360-Eye (Robot), which is required to be tested using the DOE battery charger test procedure at 10 CFR 430.23(aa) and detailed at 10 CFR part 430, subpart B, appendix Y. In its petition, Dyson asks that the requirement contained in the DOE test procedure for battery chargers provided in 10 CFR part 430, subpart B, appendix Y, section 4.4, Limiting Other Non-Battery-Charger Functions, be waived with regard to testing of the Robot battery charger. According to subsection 4.4.b (and a related provision at section 5.6.c.1), any function controlled by the user and not associated with the battery charging process must be switched off or be set to the lowest power-consuming mode.

Dyson asserts that in order to provide the user with the advanced setting and management features of the Robot, the relevant functionalities and circuitry have to be powered at all times. Accordingly, Dyson does not believe it appropriate to make these functions, which are not associated with the battery charging process, user controllable because they are an integral part of the Robot itself. Therefore, in order to ascertain the true energy consumption characteristics of the battery charger during the test, Dyson seeks permission to switch off these functions by a means that is not controlled by the user.

Dyson also requested an interim waiver from the existing DOE test procedure, which DOE granted. See 81 FR at 62489. After reviewing the alternate procedure suggested by Dyson, DOE granted the interim waiver because DOE determined that Dyson's petition for waiver will likely be granted and decided that it was desirable for public policy reasons to grant Dyson immediate relief pending a determination on the petition for waiver. Dyson's petition was published in the Federal Register on September 9, 2016. 81 FR 62489. DOE received no comments regarding Dyson's petition.

On May 20, 2016, DOE published a test procedure final rule that adopted amendments to the battery charger test procedure found in Appendix Y. 81 FR 31827. Subsequently, on December 12, 2016, DOE issued a separate final rule to add a discrete test method for uninterruptible power supplies to the battery charger test procedure. 81 FR 89806. Neither of these final rules amended the provisions of the battery charger test procedure from which Dyson sought a waiver. Since the amendments in these final rules did not address the issues presented in the waiver petition, Dyson's interim waiver has remained in effect while DOE has evaluated the waiver petition. 10 CFR 430.27(h).

III. Consultations With Other Agencies

DOE consulted with the Federal Trade Commission (FTC) staff concerning the Dyson petition for waiver. The FTC staff did not have any objections to granting a waiver to Dyson.

IV. Order

After careful consideration of all the material that was submitted by Dyson and consultation with the FTC staff, in accordance with 10 CFR 430.27, it is ordered that:

(1) The petition for waiver submitted by the Dyson Inc. (Case No. BC-001) is hereby granted as set forth in the paragraphs below.

(2) Dyson must test and rate the Dyson basic models specified in paragraph (3) on the basis of the current test procedure contained in 10 CFR part 430, subpart B, appendix Y, except that Dyson, notwithstanding the instructions in Appendix Y sections 3.2.4 and 3.3.6, may disable power to functions not associated with the battery charging process by isolating a terminal of the battery pack using isolating tape, as shown in the Appendices to the petition for waiver.

(3) This order applies only to the following basic model: RB01, marketed as the Dyson 360-Eye (“Robot”), battery charger.

(4) This waiver shall remain in effect consistent with the provisions of 10 CFR 430.27.

Issued in Washington, DC, on March 27, 2017.
Steven G. Chalk,
Acting Assistant Secretary, Energy Efficiency and Renewable Energy

[FR Doc. 2017-06732 Filed 4-4-17; 8:45 am]

BILLING CODE -P